DEPARTMENT OF AGRICULTURE

Forest Service

Boundary Establishment for the Allegheny National Wild and Scenic River, Allegheny National Forest, Warren, Forest, and Venango Counties, PA; Correction

AGENCY: Forest Service, USDA.

ACTION: Notice of availability; correction.

SUMMARY: In accordance with Section 3(b) of the Wild and Scenic Rivers Act, the USDA Forest Service, Allegheny National Forest, published a document in the Federal Register of April 10, 2012, concerning boundary establishment for the Allegheny National Wild and Scenic River. This document was published before sufficient consultation with the Seneca Nation of Indians (SNI).

FOR FURTHER INFORMATION CONTACT: Information may be obtained by contacting Operations Staff Officer Jim Seyler, Allegheny National Forest, 4 Farm Colony Drive, Warren, PA or phone (814) 728-6239.

Correction: In the Federal Register of April 10, 2012, in FR Doc. 2012-8451, on page 21522, in the first column, the USDA Forest Service, Allegheny National Forest, published a document concerning boundary establishment for the Allegheny Wild and Scenic River, Allegheny National Forest, Warren, Forest and Venango Counties, PA. This document was published before sufficient consultation with the SNI. The Allegheny National Forest will initiate consultation with the SNI. Following consultation, if the Forest Service determines a boundary change is necessary, the Allegheny National Forest will publish a new notice in the Federal Register of boundary establishment for the Allegheny National Wild and Scenic River and the USDA Forest Service, Washington Office, will transmit the changed final boundary to Congress.

Dated: June 19, 2012.
Erin Connelly,
Forest Supervisor.

[FR Doc. 2012-15530 Filed 6-25-12; 8:45 am]

BILLING CODE P